DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Contractor Legal Management Requirements, OMB Control Number 1910-5115. The proposed collection provides information necessary to aid contractors and DOE personnel in making determinations regarding the reasonableness of all outside legal costs, including the costs of litigation.

DATES: Comments regarding this collection must be received on or before October 12, 2010. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503, and to Anne Broker, GC-12, U.S. Department of Energy, Office of Conflict Prevention and Resolution, 1000 Independence Avenue, SW., Washington, DC 20585 or by fax at 202-586-4116 or by e-mail at anne.broker@hq.doe.gov.

FOR FURTHER INFORMATION CONTACT: Anne Broker, GC-12, U.S. Department of Energy, Office of Conflict Prevention and Resolution, 1000 Independence Avenue, SW., Washington, DC 20585 or by fax at 202-586-4116 or by e-mail at anne.broker@hq.doe.gov.

SUPPLEMENTARY INFORMATION: This information collection request contains: (1) OMB No.: 1910-5115; (2) Information Collection Request Title: Contractor Legal Management Requirements; (3) Type of Request: Renewal; (4) Purpose: The collection of this information continues to be necessary to provide a basis for DOE decisions on requests, from applicable contractors, for reimbursement of litigation and other legal expenses; (5) Annual Estimated Number of Respondents: 36; (6) Annual Estimated Number of Total Responses: 36; (7) Annual Estimated Number of Burden Hours: 515; (8) Annual Estimated Reporting and Recordkeeping Cost Burden: None. The costs incurred by the DOE contractors in providing the information collection in this package are recovered in their contract fees and payments.

Statutory Authority: These requirements are promulgated under authority in section 161 of the Atomic Energy Act of 1954, 42 U.S.C. 2201; the Department of Energy Organization Act, 42 U.S.C. 7101, et seq., and the National Nuclear Security Administration Act, 50 U.S.C. 2401, et seq.

Issued in Washington, DC on September 2, 2010.
Kathleen M. Binder,
Director, Office of Conflict Prevention and Resolution, Office of General Counsel.

[FR Doc. 2010-22509 Filed 9-8-10; 8:45 am]

BILLING CODE 6450-01-P